DEPARTMENT OF HEALTH AND HUMAN SERVICES

Administration for Children and Families

Health Resources and Services Administration

Advisory Committee on the Maternal, Infant and Early Childhood Home Visiting Program Evaluation; Notice of Meeting

In accordance with section 10(a)(2) of the Federal Advisory Committee Act (Pub. L. 92-463, codified at 5 U.S.C. App. 2), notice is hereby given of the following meeting:

Name: Advisory Committee on the Maternal, Infant and Early Childhood Home Visiting Program Evaluation (MIECHVE).

Dates and Times: Tuesday, December 6, 2011: 9 a.m.-5 p.m. EST. Wednesday, December 7, 2011: 9 a.m.-1 p.m. EST.

Place: Four Points by Sheraton Washington DC Downtown, 1201 K Street NW., Washington, DC 20005. (202) 289-7600.

The Advisory Committee on the Maternal, Infant and Early Childhood Home Visiting Program Evaluation (Committee) will meet for its third session on December 6, 2011, from 9 a.m.-5 p.m. EST, and on December 7, 2011, from 9 a.m.—1 p.m. EST. The purpose of the meeting is to allow the Committee to comment on the progress of the evaluation design of the MIECHV program.

Meeting Registration: General public participants are asked to register for the conference by going to the registration Web site http://www.regonline.com/advisorycommitteeHV.

Agenda: The meeting will primarily focus on measurement issues related to the revised evaluation design. Specifically, this will include a discussion by benchmark domain/participant outcome for impact, implementation measurement, cost analysis measurement, and administrative data. Agenda items are subject to change as priorities dictate.

Public Comments: Members of the public may submit written comments that will be distributed to Committee members prior to the meeting. In order to be considered, written comments should be received by Friday, December 2, 2011. Comments can be submitted via email to T'Pring Westbrook at tpring.westbrook@acf.hhs.gov.

Special Accommodations: Attendees with special needs requiring accommodations (such as large print materials or other reasonable adjustments) may make requests when registering at the online Web site by clicking on the “Special Accommodations” link on the registration page http://www.regonline.com/advisorycommitteeHV.

FOR FURTHER INFORMATION CONTACT: Any person interested in obtaining other relevant information can contact Carolyn Swaney via email at cSwaney@icfi.com.

SUPPLEMENTARY INFORMATION: The Advisory Committee on the Maternal, Infant and Early Childhood Home Visiting Program Evaluation is authorized by subsection 511(g)(1) of Title V of the Social Security Act (42 U.S.C. 711(g)(1)) as amended by section 2951 of the Patient Protection and Affordable Care Act of 2010 (Pub. L. 111-148) (the Affordable Care Act). The purpose of the Committee is to advise the Secretary of Health and Human Services on the design, plan, progress, and findings of the evaluation required for the home visiting program under the Affordable Care Act. More specifically, the Committee is to review, and make recommendations on, the design and plan for this evaluation; maintain and advise the Secretary regarding the progress of the evaluation; and comment, if the Committee so desires, on the report submitted to Congress under subsection 511(g)(3) of Title V.

The Department of Health and Human Services has contracted with MDRC (a nonprofit, nonpartisan education and social policy research organization formerly known as Manpower Demonstration Research Corporation), to conduct the evaluation of the MIECHV program.

As specified in the legislation, the evaluation will provide a state-by-state analysis of the needs assessments and the States' actions in response to the assessments. Additionally, as specified in the legislation, the evaluation will provide an assessment of: (a) The effect of early childhood home visiting programs on outcomes for parents, children, and communities with respect to domains specified in the Affordable Care Act (e.g., maternal and child health status, school readiness, and domestic violence); (b) the effectiveness of such programs on different populations, including the extent to which the ability to improve participant outcomes varies across programs and populations; and (c) the potential for the activities conducted under such programs, if scaled broadly, to enhance health care practices, eliminate health disparities, improve health care system quality, and reduce costs.

Dated: November 15, 2011.
Mary K. Wakefield,
Administrator, Health Resources and Services Administration.
Dated: November 15, 2011.
George H. Sheldon,
Acting Assistant Secretary, Administration for Children and Families.

[FR Doc. 2011-29945 Filed 11-18-11; 8:45 am]

BILLING CODE 4165-15-P